DEPARTMENT OF THE TREASURY

Internal Revenue Service

26 CFR Part 1

[TD 9441]

RIN 1545-BI46

Section 482: Methods To Determine Taxable Income in Connection With a Cost Sharing Arrangement; Correction

AGENCY: Internal Revenue Service (IRS), Treasury.

ACTION: Correction to final and temporary regulations.

SUMMARY: This document contains corrections to final and temporary regulations (TD9441) that were published in the Federal Register on Monday, January 5, 2009 providing further guidance and clarification regarding methods under section 482 to determine taxable income in connection with a cost sharing arrangement in order to address issues that have arisen in administering the current regulations. The temporary regulations affect domestic and foreign entities that enter into cost sharing arrangements described in the temporary regulations.

DATES: This correction is effective March 5, 2009, and is applicable on January 5, 2009.

FOR FURTHER INFORMATION CONTACT: Kenneth P. Christman, (202) 435-5265 (not a toll-free number).

SUPPLEMENTARY INFORMATION:

Background

The final and temporary regulations that are the subject of this document are under sections 367 and 482 of the Internal Revenue Code.

Need for Correction

As published, final and temporary regulations (TD 9441), published Monday, January 5, 2009 (74 FR 340) , contains errors that may prove to be misleading and are in need of clarification.

Correction of Publication

PART 1—[CORRECTED]

Accordingly, the publication of the final and temporary regulations (TD 9441), which was the subject of FR Doc. E8-30715, is corrected as follows:

1. On page 346, column 2, in the preamble, under the paragraph heading “4. Acquisition Price and Market Capitalization Methods—Temp. Treas. Reg. § 1.482-7T(g)(5) and (6), third paragraph of the column, line 17, the language “PCT Payor's, nonroutine contributions” is corrected to read “PCT Payee's, nonroutine contributions”.

2. On page 347, column 1, in the preamble, the language of the paragraph heading “2. Contingent Payments—Temp. Treas. Reg. § 1.482-7T(h)(2)(iv) and (v)” is corrected to read “2. Contingent Payments—Temp. Treas. Reg. § 1.482-7T(h)(2)(iii) and (iv)”.

3. On page 348, column 2, in the preamble, under the paragraph heading “Special Analyses”, last paragraph of the column, line 13, the language “preamble to the cross-reference notice of” is corrected to read “preamble to the cross-referenced notice of”.

4. On page 348, column 3, in the preamble, under the paragraph heading “Drafting Information”, second paragraph of the column, line 2, the language “proposed regulations is Kenneth P.” is corrected to read “temporary regulations is Kenneth P.”.

LaNita Van Dyke,
Chief, Publications and Regulations Branch Legal Processing Division, Associate Chief Counsel, (Procedure and Administration).

[FR Doc. E9-4656 Filed 3-4-09; 8:45 am]

BILLING CODE 4830-01-P